DEPARTMENT OF TRANSPORTATION

Surface Transportation Board

[Docket No. EP 552 (Sub-No. 17)]

Railroad Revenue Adequacy—2012 Determination

AGENCY: Surface Transportation Board, DOT.

ACTION: Notice of decision.

SUMMARY: On October 17, 2013, the Board served a decision announcing the 2012 revenue adequacy determinations for the Nation's Class I railroads. Two carriers, Norfolk Southern Combined Railroad Subsidiaries and Union Pacific Railroad Company, were found to be revenue adequate.

DATES: Effective Date: This decision is effective on October 17, 2013.

FOR FURTHER INFORMATION CONTACT: Paul Aguiar, (202) 245-0323. Assistance for the hearing impaired is available through Federal Information Relay Service (FIRS) at (800) 877-8339.

SUPPLEMENTARY INFORMATION: The Board is required to make an annual determination of railroad revenue adequacy. A railroad is considered revenue adequate under 49 U.S.C. 10704(a) if it achieves a rate of return on net investment (ROI) equal to at least the current cost of capital for the railroad industry for 2012, determined to be 11.12% in Railroad Cost of Capital—2012, EP 558 (Sub-No. 16) (STB served Aug. 30, 2013). This revenue adequacy standard was applied to each Class I railroad except for BNSF Railway Company (BNSF).¹ Two carriers, Norfolk Southern Combined Railroad Subsidiaries and Union Pacific Railroad Company, were found to be revenue adequate for 2012.

¹ The Board has not calculated BNSF's 2012 revenue adequacy in this decision, because BNSF is due to refile its R-1 reports for 2010, 2011, and 2012 by October 23, 2013, in compliance with the Board's order in Western Coal Traffic League—Petition for Declaratory Order, FD 35506 (STB served July 25, 2013). Following receipt and verification of BNSF's revised R-1 reports, the Board will reissue BNSF's 2010 and 2011 revenue adequacy calculations, and will issue its 2012 calculation.

The decision in this proceeding is posted on the Board's Web site at www.stb.dot.gov. Copies of the decision may be purchased by contacting the Office of Public Assistance, Governmental Affairs, and Compliance at (202) 245-0238. Assistance for the hearing impaired is available through FIRS at (800) 877-8339.

This action will not significantly affect either the quality of the human environment or the conservation of energy resources.

Decided: September 30, 2013.
By the Board, Chairman Elliott, Vice Chairman Begeman, and Commissioner Mulvey.
Jeffrey Herzig,
Clearance Clerk.

[FR Doc. 2013-24566 Filed 10-21-13; 8:45 am]

BILLING CODE 4915-01-P